DEPARTMENT OF AGRICULTURE

Center for Nutrition Policy and Promotion; Agency Information Collection Activities; Proposed Collection; Comment Request-Interactive Healthy Eating Index Questionnaire

AGENCY: Center for Nutrition Policy and Promotion, USDA.

ACTION: Notice.

SUMMARY: In accordance with the Paperwork Reduction Act of 1995, this notice invites the general public and other public agencies to comment on a proposed information collection. This notice announces the Center for Nutrition Policy and Promotion's intention to request the Office of Management and Budget approval of the information collection instrument to be used to survey users of the Interactive Healthy Eating Index, an on-line dietary self-assessment tool. The information collected will be used to improve the quality and usability of the Interactive Healthy Eating Index.

DATES: Written comments on this notice must be submitted on or before October 8, 2002.

ADDRESSES: Comments are invited on (a) whether the proposed collection of information is necessary for the proper performance of the functions of the agency, including whether the information will have practical utility; (b) the accuracy of the agency's estimate of the burden of the proposed collection of information, including the validity of the methodology and assumptions used; (c) ways to enhance the quality, utility and clarity of the information collected; and (d) ways to minimize the burden of the collection of information on those who are to respond, including the use of appropriate automated, electronic, mechanical, or other technological collection techniques or other forms of information technology. Comments may be sent to P. Peter Basiotis, Director, Nutrition Policy and Analysis, Center for Nutrition Policy and Promotion, U.S. Department of Agriculture, 3101 Park Center Drive, Room 1034, Alexandria, Virginia, 22302.

All responses to this notice will be summarized and included in the request for Office of Management and Budget (OMB) approval. All comments will also become a matter of public record.

FOR FURTHER INFORMATION: Requests for additional information should be directed to Shirley Gerrior, (703) 305-2563.

SUPPLEMENTARY INFORMATION: Title: Interactive Healthy Eating Index Questionnaire.

OMB Number: Not yet assigned.

Expiration Date: Not applicable.

Type of Request: New collection of information.

Abstract: The Interactive Healthy Eating Index (IHEI) is an Internet based diet self-assessment tool. The IHEI translates scientifically based guidance into practical information and promotes nutrition education by increasing awareness of the quality of a person's diet. It allows users to input their daily food intakes and provides a quick summary measure of their overall diet quality in terms of current dietary guidance. Immediate feedback includes an overall Index score, 10 component scores, and nutrient intake information. Motivational nutrition messages tailored to user needs and a personalized graphical representation of the Food Guide Pyramid are generated based on user scores. The proposed questionnaire will collect information on the usability, clarity and quality of the IHEI Web site. The questionnaire will also obtain feedback on user interest and need for the addition of a personalized meal plan or suggested list of foods designed to improve a person's diet quality. Optional demographic, geographic location, income, and ethnicity information will also be obtained from survey respondents. The questionnaire will be available to IHEI users for a period of 30 days. The information collected will only be used by CNPP, USDA to enhance the usability of the IHEI, to make available pertinent and user-friendly information and personalized messages, and to ensure the continued quality service of the IHEI Web site.

Affected Public: The American Consumers.

Estimated Number of Respondents: 30,000 respondents (for a 30 day period based on average daily use by 2,000 individuals at a projected 50% response rate).

Estimated Time Per Response: 10 minutes.

Estimated Number of Responses Per Respondent: One.

Estimated Total Annual Burden on Respondents: 5,000 hours.

Dated: July 26, 2002.
Steven N. Christensen,
Acting Executive Director, Center for Nutrition Policy and Promotion.

[FR Doc. 02-20191 Filed 8-8-02; 8:45 am]

BILLING CODE 3410-30-P